DEPARTMENT OF THE INTERIOR

Bureau of Land Management

[LL ID03000-L14300000-FR0000, DSG-09-0001; IDI-14152-02]

Notice of Realty Action: Recreation and Public Purposes Act Sale Classification; Idaho

AGENCY: Bureau of Land Management, Interior.

ACTION: Notice of Realty Action.

SUMMARY: The Bureau of Land Management (BLM) has determined that certain public lands in Custer County, Idaho are suitable for classification for conveyance to the Custer County Commission, under authority of the Recreation and Public Purposes (R&PP) Act, June 14, 1926, (43 U.S.C. 869 et seq.) as amended.

DATES: Comments regarding the proposed classification for conveyance must be received by January 14, 2010.

ADDRESSES: Detailed information concerning this action, including but not limited to documentation related to compliance with applicable environmental and cultural resource laws, is available for review at the BLM Challis Field Office. Address all written comments concerning this Notice to David Rosenkrance, BLM Challis Field Office Manager, 1151 Blue Mountain Road, Challis, Idaho 83226-9304.

FOR FURTHER INFORMATION CONTACT: Tim Vanek, Realty Specialist, BLM Challis Field Office, (208) 879-6218, or by e-mail at: timothy_vanek@blm.gov.

SUPPLEMENTARY INFORMATION: The Challis Shooting Range is approximately 2½ miles north of Challis, Idaho and approximately 0.8 mile west of Challis Creek Road. The public land portion of the Challis Shooting Range has been examined and found suitable for conveyance to the Custer County Commission under the provisions of the R&PP Act, as amended. The subject parcel is at the following legal land description:

Boise Meridian

T. 14 N., R. 19. E.,

Sec. 17, N½SW¼.

The area described contains approximately 80 acres in Custer County.

The 80 acres is currently authorized under an R&PP lease, identified with BLM serial number IDI-14152-01, to the Custer County Commission, and operated and managed by the Central Idaho Rod & Gun Club (CIRGC), which is a non-profit organization. The current lease was originally granted in July 1981 and renewed in November 2006. To comply with the R&PP Act, as amended and current BLM policy found in Instruction Memorandum 2008-074 (Change 1) dated December 2, 2008, the renewal decision included a bar on further renewals. The lease will expire in November 2011.

CIRGC developed the subject parcel with a rifle range, rifle shooting stations/benches with overhead cover, target backstops at 100-yard intervals out to 600-yards, and a two-track road extending the length of the range. Also, as a part of the rifle range, CIRGC uses a 1000-yard backstop which is an earthen berm. However, it is not part of the 80-acres currently authorized by the R&PP lease, nor is it listed for disposal in the BLM Challis Resource Management Plan. Hence, it is not part of this sale classification. The subject parcel is adjacent to private property owned by the CIRGC which developed the site with a clubhouse, access road and parking area, shotgun trap shooting stations, pistol range, and a public restroom.

The Custer County Commission proposes to use the land to continue operation of the Challis Shooting Range. Custer County holding R&PP title to the subject parcel would also provide the CIRGC freedom to make future improvements to the facility. There are no other use authorizations on the subject parcel. Conveyance of the subject parcel is consistent with the BLM Challis Resource Management Plan.

The patent, if issued, will be subject to the following terms, conditions, and reservations:

1. Provisions of the R&PP Act, as amended and all applicable regulation of the Secretary of the Interior will apply. In particular, statutory provisions governing the disposal of existing leased disposal sites are to be found at 43 U.S.C. 869-2(b), regulatory provisions can be found at 43 CFR 2743.3 and 2743.3-1.

2. The United States will reserve the right to construct ditches and canals, authorized by the Act of August 30, 1890, 43 U.S.C. 945.

3. The United States will reserve all minerals together with the right to prospect for, mine, and remove the minerals.

4. All valid and existing rights.

5. These parcels are subject to the requirements of Section 120(h) of the Comprehensive Environmental Response, Compensation and Liabilities Act, 42 U.S.C. 9620(h), as amended by the Superfund Amendments and Reauthorization Act of 1986, Title III, Section 305(a).

6. The patentee, its successors or assigns, by accepting a patent, agrees to indemnify, defend, and hold harmless the United States, its officers, agents, representatives and employees (hereinafter “United States”) from any costs, damages, claims, causes of action in connection with the patentee's use, occupancy, or operations on the patented real property. This agreement includes, but is not limited to, acts or omissions of the patentee and its employees, agents, contractors, lessees, or any third party arising out of, or in connection with, the patentee's use, occupancy, or operations on the patented real property which cause or give rise to, in whole or in part: (1) Violations of Federal, state, and local laws and regulations that are now, or may in the future become, applicable to the real property and/or applicable to the use, occupancy, and/or operations thereon; (2) Judgments, claims, or demands of any kind assessed against the United States; (3) Costs, expenses, or damages of any kind incurred by the United States; and (4) Releases or threatened releases of solid, or hazardous waste(s), and/or hazardous substance(s), pollutant(s), contaminant(s), and/or petroleum product(s), or derivative(s) of a petroleum product as defined by Federal or State environmental laws, age generated, stored, used, or otherwise disposed of on the patented real property, and any cleanup response, remedial action or other actions related in any manner to the said solid or hazardous substance(s), waste(s), contaminant(s), petroleum product(s), or derivative(s) of petroleum product as defined by Federal or state laws. Patentee shall stipulate that it will be solely responsible for compliance with all applicable Federal, State, and local environmental laws and regulatory provisions, throughout the life of the facility, including any closure and/or post-closure requirements that may be imposed with respect to any physical plant and/or facility upon the real property under any Federal, State, or local environmental laws or regulatory provisions. In the case of a patent being issued, this covenant shall be construed as running with the patented real property and may be enforced by the United States in a court of competent jurisdiction.

Additional detailed information concerning this Notice of Realty Action including records related to the subject parcel is available for review at the BLM Challis Field Office, 1151 Blue Mountain Road, Challis, Idaho 83226. Office hours are 7:45 a.m. to 4:30 p.m., Monday through Friday except holidays.

Upon publication of this notice in the Federal Register, the land described above will be segregated from appropriation under the public land laws, including the mining laws, except for conveyance under the R&PP Act, as amended.

You may submit written comments regarding the proposed classification for conveyance of the land to the BLM Field Office Manager at the address stated above. With respect to the proposed classification, the BLM Challis Field Office will only accept written comments concerning the following four subjects:

1. Whether the land is physically suited for the proposal;

2. Whether the use will maximize the future use or uses of the land;

3. Whether the use is consistent with local planning and zoning; and

4. If the use is consistent with State and Federal programs.

You may also submit written comments regarding BLM's adherence to proper administrative procedures in reaching the decision. Comments received during this process, including respondent's name, address, and other contact information will be available for public review. Before including your address, phone number, e-mail address, or other personal identifying information in your comment, you should be aware that your entire comment—including your personal identifying information—may be made publicly available at any time. While you can ask us in your comment to withhold your personal identifying information from public review, we cannot guarantee that we will be able to do so.

The BLM State Director will review any adverse comments and may sustain, vacate, or modify this decision. In the event the public does not submit adverse comments, the classification will become effective no sooner than January 29, 2010. The land will not be offered for conveyance until after the classification becomes effective.

Authority: 43 CFR Subpart 2741.

David Rosenkrance,
Challis Field Manager.

[FR Doc. E9-28454 Filed 11-27-09; 8:45 am]

BILLING CODE 4310-GG-P